DEPARTMENT OF THE INTERIOR

Bureau of Indian Affairs

[201D0102DR/DS5A300000/DR.5A311.IA000118]

Notice of Cancellation of Environmental Impact Statement for Proposed Coquille Indian Tribe Fee-To-Trust and Gaming Facility Project, City of Medford, Jackson County, Oregon

AGENCY: Bureau of Indian Affairs, Interior.

ACTION: Notice of cancellation.

SUMMARY: The Bureau of Indian Affairs (BIA) announces that it has discontinued preparation of an Environmental Impact Statement (EIS) for the Coquille Indian Tribe's (Tribe) application for the proposed conveyance of 2.4-acres of land into trust and development of a gaming facility in the City of Medford, Jackson County, Oregon. The Proposed Action included (1) conveyance of the Medford Site into trust by the BIA, and (2) conversion of an existing bowling alley on the Medford Site into a gaming facility by the Tribe. On May 27, 2020, the Assistant Secretary—Indian Affairs declined to accept conveyance of the Medford Site into trust. Accordingly, the Department will take no Federal action, and there is no longer a need for an EIS.

DATES: Cancellation of this EIS is immediate.

ADDRESSES: Mail all comments, statements, or questions concerning this notice to: Mr. Bryan Mercier, Northwest Regional Director, Bureau of Indian Affairs, Northwest Region, 911 Northeast 11th Avenue, Portland, Oregon 97232-4165.

FOR FURTHER INFORMATION CONTACT: Jacilyn Snyder, BIA Northwest Regional Environmental Protection Specialist, at (503) 231-6780.

SUPPLEMENTARY INFORMATION: On January 15, 2015, the BIA published in the Federal Register a Notice of Intent to prepare an EIS. The BIA initiated scoping on February 2, 2015. On May 27, 2020, the Assistant Secretary—Indian Affairs declined to accept conveyance of the Medford Site into trust pursuant to the Department's regulations at 25 CFR part 151. Under the Department's regulations, the Secretary must consider jurisdictional problems that may arise because of the conveyance. The Assistant Secretary determined pursuant to 25 CFR 151.11(b) that the Tribe's anticipated benefits do not outweigh potential jurisdictional concerns raised by the State, county, and municipal governments having regulatory jurisdiction over the Medford Site. Accordingly, the Department will take no Federal action, and there is no longer a need for an EIS.

Tara Sweeney,
Assistant Secretary—Indian Affairs.

[FR Doc. 2020-19503 Filed 9-2-20; 8:45 am]

BILLING CODE 4337-15-P